NUCLEAR REGULATORY COMMISSION

Notice of Availability of the Final Supplement 1 to the Generic Environmental Impact Statement on Decommissioning of Nuclear Facilities, NUREG-0586

Notice is hereby given that the U.S. Nuclear Regulatory Commission (NRC) has published Final Supplement 1 to NUREG-0586, “Generic Environmental Impact Statement (GEIS) on Decommissioning of Nuclear Facilities,” regarding the decommissioning of nuclear power reactors.

Final Supplement 1 to the GEIS is available for public inspection in the NRC's Public Document Room (PDR), located at One White Flint North, 11555 Rockville Pike (first floor), Rockville, Maryland, or from the Publicly Available Records (PARS) component of NRC's Agencywide Documents Access and Management System (ADAMS). ADAMS is accessible from the NRC Web site at http://www.nrc.gov/reading-rm.html (the Public Reading Room). Persons who do not have access to ADAMS or who encounter problems in accessing the documents located in ADAMS, should contact the NRC's PDR reference staff by telephone at 1-800-397-4209 or 301-415-4737, or by e-mail to pdr@nrc.gov.

FOR FURTHER INFORMATION CONTACT: Dr. Michael T. Masnik, Senior Project Manager, License Renewal and Environmental Impacts Program, Division of Regulatory Improvement Programs, Office of Nuclear Reactor Regulation, U.S. Nuclear Regulatory Commission, Washington, DC 20555. Dr. Masnik may be contacted at (301) 415-1191 or by writing to: Michael T. Masnik, U.S. Nuclear Regulatory Commission, MS O-12D3, Washington, DC 20555-0001.

Dated at Rockville, Maryland, this 13th day of December, 2002.
For the Nuclear Regulatory Commission.
Pao-Tsin Kuo,
Program Director, License Renewal and Environmental Impacts, Division of Regulatory Improvement Programs, Office of Nuclear Reactor Regulation.

[FR Doc. 02-32080 Filed 12-19-02; 8:45 am]

BILLING CODE 7590-01-P